SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget. Attn: Desk Officer for SSA. Fax: 202-395-6974.

(SSA) Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Application for Lump Sum Death Payment—20 CFR 404.390-404.392—0960-0013. The Social Security Administration (SSA) needs the information collected on Form SSA-8-F4 to authorize payment of the lump-sum death payment (LSDP) to a widow, widower, or children as defined in Section 202(i) of the Act. Respondents are applicants for LSDP.

Type of Request: Extension of an OMB-approved information collection.

Number of Respondents: 587,000.

Estimated Annual Burden: 93,187 hours.

Collection method | Number of respondents | Estimated completion time | Burden hours
Personal Interview (Modernized Claims System) | 557,650 | 9-10 minutes | 88,2950
Paper | 29,350 | 10 minutes | 4,892
Totals | 587,000 |  | 93,187

2. Pre-1957 Military Service—Federal Benefit Questionnaire—20 CFR 404.1301-404.1371—0960-0120. Sections 217(a) through (e) of the Social Security Act provide for the crediting of military service before 1957 to the wage earner's record. Form SSA-2512 collects specific information about other Federal, military or civilian benefits the wage earner may receive when the applicant indicates both pre-1957 military service and the receipt of Federal benefits. This data is then used in the claims adjudication process to grant gratuitous military wage credits when applicable. This form is used to solicit sufficient information to make a determination of eligibility. Respondents are applicants for Social Security benefits on a record where the wage earner has pre-1957 military service.

Type of Request: Extension of an OMB-approved information collection.

Number of Respondents: 5,000.

Frequency of Response: 1.

Average Burden per Response: 10 minutes.

Estimated Annual Burden: 833 hours.

3. Prisoner Matching Agreements—20 CFR 404.468 and 20 CFR 416.211 —0960-NEW.

Collection Background

Section 202(x) of the Social Security Act (the Act) and regulations at 20 CFR 404.468 preclude a person from receiving a benefit under title II for any month during which such individual is confined in a jail, prison, or other penal institution or correctional facility pursuant to his conviction of a criminal offense or because he/she is not-guilty by reason of insanity. Accordingly, Section 1611(e) of the Social Security Act and regulations at 20 CFR 416.211, provide that no person shall be an eligible individual or eligible spouse for title XVI with respect to any month if throughout such month he is an inmate of a public institution.

Prisoner Matching Collection Activity

To enforce these provisions of the Act, SSA has entered into agreements with the Federal Bureau of Prisons, along with State and local correctional facilities and certain mental health institutions, to submit monthly prisoner reports to SSA. SSA matches these reports against our files to identify incarcerated individuals receiving Social Security and Supplemental Security Income (SSI) payments and take action to suspend their payments. SSA uses the reports of confinement as the basis for stopping payments under titles II & XVI. The respondents to the collection are State and local correctional facilities, the Federal Bureau of Prisons and certain mental health institutions that have entered into prisoner matching agreements with SSA.

Type of Request: Collection in use without OMB Control Number.

Number of Respondents: 3,000.

Frequency of Response: 12.

Average Burden per Response: 60 minutes.

Estimated Annual Burden: 36,000 hours.

4. Fugitive Felon Matching Agreements—20 CFR 404.471 and 416.1339—0960-NEW.

Collection Background

Sections 202(x) and 1611(e)(4) of the Social Security Act provides that a person may not receive a benefit under title II and will not be eligible under title XVI for any month he or she is avoiding prosecution for a felony, is avoiding confinement or conviction of a felony, or is violating a condition of probation or parole. In jurisdictions that do not define crimes as felonies this nonpayment/ineligibility applies to any crime that is punishable by death or imprisonment for more than one year, regardless of the actual sentence imposed.

Fugitive Felon Matching Collection Activity

To enforce these provisions of the Act, SSA has entered agreements with the FBI's National Crime Information Center (NCIC), the U.S. Marshall Service, 21 individual States, Washington DC, and four metropolitan law enforcement agencies under which these law enforcement agencies submit outstanding felony and parole/probation violator warrants to SSA. SSA uses the reports of outstanding warrants as the basis for stopping payments under titles II & XVI. The respondents to the collection are the Federal, State and local law enforcement agencies that have entered into Fugitive Felon matching agreements with SSA.

Type of Request: Collection in use without OMB Control Number.

Number of Respondents: 28.

Frequency of Response: * 7.

Average Burden per Response: 60 minutes.

Estimated Annual Burden: 196 hours.

* Please Note: Seven responses per respondent is the average frequency of reporting. The actual response rate per respondent varies based on the individual need to report.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Application for Widow's or Widower's Insurance Benefits—20 CFR 404.335-404.338, 404.603—0960-0004. SSA uses the information collected on the SSA-10-BK to determine whether the applicant meets the statutory and regulatory conditions for entitlement to widow(er)'s Social Security Title II benefits. The respondents are applicants for widow's or widower's insurance benefits.

Type of Request: Extension of an OMB-approved information collection.

Number of Respondents: 341,560.

Estimated Annual Burden: 82,686 hours.

Collection method | Number of respondents | Estimated completion time | Burden hours
Personal Interview (Modernized Claims System) | 324,482 | 14-15 minutes | 78,416
Paper | 17,078 | 15 minutes | 4,270
Totals | 341,560 |  | 82,686

2. Waiver of Right to Appear—Disability Hearing—20 CFR 404.913-404.914, 404.916(b)(5), 416.1413-416.1414, 416.1416(b)(5)—0960-0534. The SSA-773-U4 is used by claimants or their representatives to officially wave the right to appear at a disability hearing. The disability hearing officer uses the signed form as a basis for not holding a hearing and for preparing a written decision based solely on the evidence of the record. The respondents are claimants for disability under Titles II and XVI of the Social Security Act, or their representatives, who wish to officially waive their right to appear at a disability hearing.

Type of Request: Extension of an OMB-approved information collection.

Number of Respondents: 200.

Frequency of Response: 1.

Average Burden per Response: 3 minutes.

Estimated Annual Burden: 10 hours.

3. Childhood Disability Evaluation Form—20 CFR 416.924(g)—0960-0568. The information collected on the SSA-538-F6 is used by SSA and the State Disability Determination Services (DDSs) to record medical and functional findings concerning the severity of impairments of children claiming SSI benefits based on disability. The SSA-538-F6 is used for initial determinations of SSI eligibility; appeals; and in initial continuing disability reviews. The respondents are DDSs which make disability determinations on behalf of SSA under Title XVI of the Social Security Act.

Type of Request: Extension of an OMB-approved information collection.

Number of Respondents: 750,000.

Frequency of Response: 1.

Average Burden per Response: 25 minutes.

Estimated Annual Burden: 312,500 hours.

4. Uniform Administrative Requirements for Grants and Agreements with Institutions of Higher Learning, Hospitals and Other Non-Profit Organizations—20 CFR 435—0960-0616. The information contained in 20 CFR 435 of the Code of Federal Regulations provides SSA's standards in the administration of grants and agreements awarded to institutions of higher learning, hospitals, other non-profit and/or commercial organizations. It provides administrative guidelines and reporting, recordkeeping and disclosure requirements for applicable recipients of grants and agreements. Respondents are applicants and recipients for grants and agreements with SSA.

Type of Request: Extension of an OMB-approved information collection.

Number of Respondents: 196.

Number of Responses: 697.

Estimated Annual Burden: 12,871 hours.

Section No. | Number of responses | Frequency of response | Average burden per response (hours) | Estimated annual burden (hours)
435.21 Rec-kp | 1 | N/A | 40 | 40
435.23 Rec-kp | 143 | Quarterly (4) | 1 | 572
435.25 Rpt | 157 | Biannually (2) | 4 | 1,256
435.33 Rpt | 1 | Annually (1) | 1 | 1
435.44 Rpt | 1 | Annually (1) | 2 | 2
435.51 Rpt | 196 | Quarterly (4) | 12 | 9,408
435.53 Rec-kp | 196 | Annually (1) | 8 | 1,568
435.81 Rpt | 1 | Annually (1) | 16 | 16
435.82 Rpt | 1 | Annually (1) | 8 | 8
Total | 697 |  |  | 12,871

5. Medical Consultant's Review of Physical Residual Functional Capacity Assessment—20 CFR 404.1545-.1546, 404.1640, 404.1643, 404.1645, 416.945-.946—0960-0680. The SSA-392 is used by SSA's regional review component to facilitate the medical consultant's review of the Physical Residual Functional Capacity Assessment form (PRFC). The SSA-392 records the reviewing medical consultant's assessment of the PRFC prepared by the adjudicating component. The medical consultant only completes an SSA-392 when the adjudicating component's RFC is in the claims file. The SSA-392 is required for each PRFC completed. Respondents are medical consultants who review the adjudicating component's completion of the PRFC for quality purposes.

Type of Request: Extension of an OMB-approved information collection.

Number of Respondents: 256.

Frequency of Response: 359.

Number of Responses: 91,904

Average Burden per Response: 12 minutes.

Estimated Annual Burden: 18,380 hours.

6. Special Benefits for Certain World War II Veterans—20 CFR 408, Subparts G, H, I, J & L—0960-0683. Title VIII of the Social Security Act, Special Benefits for Certain World War II Veterans (SVB), allows, under certain circumstances, the payment of SVB to qualified veterans who reside outside the United States. The accompanying regulations set out the requirements an individual must meet in order to establish continuing eligibility to, and insure correct payment amount of, SVB and/or State recognition payments. Additionally, they provide requirements that a State must meet in order to elect, modify, or terminate a Federal agreement. The respondents are individuals who receive Title VIII SVB, and/or States that elect Federal administration of their recognition payments.

Type of Request: Extension of an OMB-approved information collection.

Estimated Annual Burden: 22 hours.

Section No. | Number of respondents | Frequency of response | Average burden per response (minutes) | Estimated annual burden
§ 408.704-.714 | 1 | 1 | 60 | 1
§ 408.802(b) | 5 | 1 | 15 | 1.25
§ 408.814 | 5 | 1 | 15 | 1.25
§ 408.820(c) | 5 | 1 | 15 | 1.25
§ 408.923(b) | 1 | 1 | 60 | 1
§ 408.931(b) & § 408.932(d) | 1 | 1 | 60 | 1
§ 408.932(c) | 2 | 1 | 15 | .50
§ 408.932(e) | 2 | 1 | 15 | .50
§ 408.941(b) & § 408.942 | 2 | 1 | 15 | .50
§ 408.944(a) | 2 | 1 | 30 | 1
§ 408.1000(a) | 1 | 1 | 60 | 1
§ 408.1007; § 408.1009(a)-(b) | 1 | 1 | 60 | 1
§ 408.1009(c) | 1 | 1 | 60 | 1
§ 408.1210(c)-(d) | 1 | 1 | 120 | 2
§ 408.1215 | 10 | 1 | 15 | 2.50
§ 408.1230 | 20 | 1 | 15 | 5.00
Totals | 60 |  |  | 22

Dated: September 11, 2006.
Elizabeth A. Davidson,
Reports Clearance Officer, Social Security Administration.

[FR Doc. E6-15281 Filed 9-15-06; 8:45 am]

BILLING CODE 4191-02-P